DEPARTMENT OF DEFENSE

GENERAL SERVICES ADMINISTRATION

NATIONAL AERONAUTICS AND SPACE ADMINISTRATION

48 CFR Parts 13, 15, and 16

[FAR Case 2017-010; Docket No. 2017-0010; Sequence No. 1]

RIN 9000-AN54

Federal Acquisition Regulation: Evaluation Factors for Multiple-Award Contracts; Correction

AGENCY: Department of Defense (DoD), General Services Administration (GSA), and National Aeronautics and Space Administration (NASA).

ACTION: Proposed rule; correction.

SUMMARY: On September 24, 2018, DoD, GSA, and NASA published a document proposing to amend the Federal Acquisition Regulation (FAR) to implement a section of the National Defense Authorization Act (NDAA) for Fiscal Year (FY) 2017. The document heading carried an incorrect docket number. This document carries the correct docket number.

DATES: Comments for the proposed rule published September 24, 2018, at 83 FR 48271, continue to be accepted on or before November 23, 2018, to be considered in the formulation of a final rule.

ADDRESSES: Submit comments in response to FAR Case 2017-010 by any of the following methods:

• Regulations.gov: http://www.regulations.gov. Submit comments via the Federal eRulemaking portal by entering “FAR Case 2017-010” under the heading “Enter Keyword or ID” and selecting “Search”. Select the link “Comment Now” that corresponds with “FAR Case 2017-010”. Follow the instructions provided on the screen. Please include your name, company name (if any), and “FAR Case 2017-010” on your attached document.

• Mail: General Services Administration, Regulatory Secretariat Division, ATTN: Lois Mandell, 1800 F Street NW, 2nd floor, Washington, DC 20405.

Instructions: Please submit comments only and cite “FAR case 2017-010” in all correspondence related to this case. Comments received generally will be posted without change to http://www.regulations.gov, including any personal and/or business confidential information provided. To confirm receipt of your comment(s), please check www.regulations.gov, approximately two to three days after submission to verify posting (except allow 30 days for posting of comments submitted by mail).

FOR FURTHER INFORMATION CONTACT: For clarification of content, contact Mr. Michael O. Jackson, Procurement Analyst, at 202-208-4949. For information pertaining to status or publication schedules, contact the Regulatory Secretariat Division at 202-501-4755. Please cite “FAR Case 2017-010.”

SUPPLEMENTARY INFORMATION: On September 24, 2018, at 83 FR 48271, DoD, GSA, and NASA published a proposed rule to amend the Federal Acquisition Regulation (FAR) to implement a section of the National Defense Authorization Act (NDAA) for Fiscal Year (FY) 2017. The document's heading contained the incorrect docket number, “Docket No. 2017-0009.” The correct docket number is “Docket No. 2017-0010” and is in the heading of this correction.

Dated: October 17, 2018.
William F. Clark,
Director, Office of Government-wide Acquisition Policy, Office of Acquisition Policy, Office of Government-wide Policy.

[FR Doc. 2018-23072 Filed 10-22-18; 8:45 am]

BILLING CODE 6820-EP-P